DEPARTMENT OF COMMERCE

Bureau Industry Security

Membership of the Bureau Industry Security Performance Review Board

AGENCY: Bureau Industry Security, Department of Commerce.

ACTION: Notice of membership on the Bureau Industry Security's Performance Review Board membership.

SUMMARY: In accordance with 5 U.S.C. 4314(c)(4), the Bureau Industry Security (BIS), Department of Commerce (DOC), announce the appointment of those individuals who have been selected to serve as members of BIS's Performance Review Board. The Performance Review Board is responsible for (1) reviewing performance appraisals and rating of Senior Executive Service (SES) members and (2) making recommendations to the appointing authority on other performance management issues, such as pay adjustments, bonuses and Presidential Rank Awards for SES members. The appointment of these members to the Performance Review Board will be for a period of twenty-four (24) months.

DATES: The period of appointment for those individuals selected for BIS's Performance Review Board begins on October 18, 2010.

FOR FURTHER INFORMATION CONTACT: Ruthie B. Stewart, Department of Commerce Human Resources Operations Center (DOCHROC), Office of Executive Resources Operations, 14th and Constitution Avenue, NW., Room C-200, Washington, DC 20230, at (202) 482-3130.

SUPPLEMENTARY INFORMATION: In accordance with 5 U.S.C. 4314(c)(4), the Bureau Industry Security (BIS), Department of Commerce (DOC), announce the appointment of those individuals who have been selected to serve as members of BIS's Performance Review Board. The Performance Review Board is responsible for (1) reviewing performance appraisals and rating of Senior Executive Service (SES) members and (2) making recommendations to the appointing authority on other performance management issues, such as pay adjustments, bonuses and Presidential Rank Awards for SES members. The appointment of these members to the Performance Review Board will be for a period of twenty-four (24) months.

The period of appointment for those individuals selected for BIS's Performance Review Board begins on October 18, 2010. The name, position title, and type of appointment of each member of BIS's Performance Review Board are set forth below by organization:

Department of Commerce, Office of the Secretary

Michael Levitt, Assistant General Counsel for Legislation and Regulations, OGC.

Department of Commerce, Bureau Industry Security

Daniel O. Hill, Deputy Under Secretary;

Matthew S. Borman, Deputy Assistant Secretary for Export Administration;

Gay Shrum, CFO and Director of Administration.

Susan Boggs,
Director, Office of Staffing, Recruitment and Classification, Department of Commerce Human Resources Operations Center.

[FR Doc. 2010-26168 Filed 10-15-10; 8:45 am]

BILLING CODE 3510-25-P